SURFACE TRANSPORTATION BOARD

[Docket No. FD 36074]

WRL, LLC—Acquisition Exemption—City of Tacoma, Department of Public Works

WRL, LLC (WRL), a Class III carrier, has filed a verified notice of exemption under 49 CFR 1150.41 to acquire from the City of Tacoma, Department of Public Works d/b/a Tacoma Rail (Tacoma Rail), approximately 34.6 miles of rail line between milepost 33C and milepost 67.6 in Lewis and Thurston Counties, Wash. (the Line). The Line is currently operated by Western Washington Railroad, LLC (WWRR). See W. Wash. R.R.—Lease & Operation Exemption—City of Tacoma, Dep't of Pub. Works, FD 35921 (STB served July 29, 2015).

According to WRL, it expects to enter into an agreement with Tacoma Rail on or about October 4, 2016, pursuant to which it will acquire the Line from Tacoma Rail. WRL states that WWRR will continue to be the operator of the Line. WRL also states that the proposed transaction does not involve any provision that prohibits, restricts, or would otherwise limit future interchange of traffic with any third-party carrier.

WRL certifies that, as a result of the proposed transaction, its projected revenues will not result in its becoming a Class I or Class II rail carrier and will not exceed $5 million.

WRL states that the parties intend to consummate the transaction immediately after the effective date of the exemption. The earliest this transaction may be consummated is October 30, 2016 (30 days after the verified notice of exemption was filed).

According to WRL, this action is categorically excluded from environmental review under 49 CFR 1105.6(c) and from historic review under 49 CFR 1105.8(b).

If the verified notice contains false or misleading information, the exemption is void ab initio. Petitions to revoke the exemption under 49 U.S.C. 10502(d) may be filed at any time. The filing of a petition to revoke will not automatically stay the effectiveness of the exemption. Petitions for stay must be filed no later than October 21, 2016 (at least seven days before the exemption becomes effective).

An original and 10 copies of all pleadings, referring to Docket No. FD 36074, must be filed with the Surface Transportation Board, 395 E Street SW., Washington, DC 20423-0001. In addition, a copy of each pleading must be served on James H.M. Savage, 22 Rockingham Court, Germantown, MD 20874.

Board decisions and notices are available on our Web site at “WWW.STB.GOV.”

Decided: October 11, 2016.
By the Board, Rachel D. Campbell, Director, Office of Proceedings.
Kenyatta Clay,
Clearance Clerk.

[FR Doc. 2016-24861 Filed 10-13-16; 8:45 am]

BILLING CODE 4915-01-P